DEPARTMENT OF HEALTH AND HUMAN SERVICES

Substance Abuse and Mental Health Services Administration

Fiscal Year (FY) 2024 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the 26 eligible grant recipients funded in FY 2022 under the First Responders-Comprehensive Addiction and Recovery Act (FR-CARA), Notice of Funding Opportunity (NOFO) TI-22-008. Recipients may receive up to $58,190 each, for a total of $1,512,940 across the program. These recipients have a project end date for use of these supplemental funds of September 29, 2025. The supplements will be used to fund a Training of Trainer (ToT) model to rapidly expand workforce development and capacity in the arena of preventing overdose related deaths and adverse events within existing projects funded under the FR-CARA program.

FOR FURTHER INFORMATION CONTACT: Shannon Hastings, NOFO Lead, Division of Targeted Prevention, Center for Substance Abuse Prevention, Substance Abuse and Mental Health Services Administration, 5600 Fishers Lane, Rockville, MD 20857, DTP-NOFO@samhsa.hhs.gov, Telephone: (240) 276-1869.

SUPPLEMENTARY INFORMATION:

Funding Opportunity Title: FY 2022 First Responders-Comprehensive Addiction and Recovery Act (FR-CARA) TI-22-008.

Assistance Listing Number: 93.243.

Authority: Section 546 of the Public Health Service Act, as amended, 42 U.S.C. 290ee-1.

Justification: These supplement awards will be offered to the FY 2022 cohorts under TI-22-008. Supplemental funding will be awarded to this cohort that has two years remaining in awards to implement their projects. FY 2022 cohorts have implemented existing activities well positioned to be leveraged under the ToT model. These factors will benefit SAMHSA so that the agency will be able to track the effects of the ToT model over time. This work aligns with SAMHSA's goals of expanding access to naloxone and other opioid overdose reversal medications and enhances SAMHSA's naloxone saturation and overdose prevention efforts.

This is not a formal request for application. Assistance will only be provided to the 26 FR-CARA grant recipients funded in FY 2022 under the First Responders-Comprehensive Addiction and Recovery Act NOFO (TI-22-008) based on the receipt of a satisfactory application and associated budget that is approved by a review group.

Dated: August 20, 2024.
Ann Ferrero,
Public Health Analyst.

[FR Doc. 2024-18944 Filed 8-23-24; 8:45 am]

BILLING CODE 4162-20-P